DEPARTMENT OF JUSTICE

Notice of Lodging of Consent Decree Pursuant to the Clean Air Act

In accordance with Departmental policy, 28 CFR. 50.7, notice is hereby given that on June 12, 2000, a proposed consent decree in the United States v. City of New York, et al. Civil Action No. 99 Civ. 2207 (LAK) was lodged with the United States District Court for the Southern District of New York.

The proposed consent decree resolves the United States' claims against the City of New York and the New York City Department of Sanitation (collectively “defendants”) for violations of Section 608 of the Clean Air Act, 42 U.S.C. § 7671(g) and its implementing regulations set forth at 40 CFR Part 82, Subpart F, and a Compliance Order issued by the United States Environmental Protection Agency, by disposing of appliance collected from city residents in a manner that released substances that deplete the stratospheric ozone layer. Under the terms of the proposed consent decree, defendants will pay a civil penalty of $1,000,000.00 to the United States, and perform Supplemental Environmental Projects worth $3,000,000.00 that will improve the air quality of New York City.

The Department of Justice will receive for a period of thirty (30) days from the date of this publication comments relating to the proposed consent decree. Comments should be addressed to the Assistant Attorney General of the Environment and Natural Resources Division, P.O. Box 7611, and should refer to United States v. City of New York, et al., DOJ Ref. No. 90-5-2-106471.

The proposed consent decree may be examined at the Office of the United States Attorney for the Southern District of New York, and at the Region II Office of the Environmental Protection Agency, 290 Broadway, New York, New York, 10007. A copy of the proposed consent decree may also be obtained by mail from the Department of Justice Consent Decree Library, P.O. Box 7611, Washington, DC 20044-7611. In requesting a copy, please enclose a check payable to the Consent Decree Library in the amount of $5.25 (25 cents per page reproduction costs).

Joel M. Gross,
Chief, Environmental Enforcement Section, Environment and Natural Resources Division.

[FR Doc. 00-16605 Filed 6-29-00; 8:45 am]

BILLING CODE 4410-15-M